DEPARTMENT OF COMMERCE

National Oceanic and Atmospheric Administration

RIN 0648-XD635

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Monday, December 8, 2014 through Thursday, December 11, 2014. For agenda details, see SUPPLEMENTARY INFORMATION.

ADDRESSES: The meeting will be held at: Royal Sonesta, 550 Light Street, Baltimore, MD, telephone: (410) 234-0550.

Council Address: Mid-Atlantic Fishery Management Council, 800 N. State St., Suite 201, Dover, DE 19901; telephone: (302) 674-2331.

FOR FURTHER INFORMATION CONTACT: Christopher M. Moore, Ph.D., Executive Director, Mid-Atlantic Fishery Management Council; telephone: (302) 526-5255. The Council's Web site, www.mafmc.org also has details on the meeting location, proposed agenda, webinar listen-in access, and briefing materials.

SUPPLEMENTARY INFORMATION: The following items are on the agenda, though agenda items may be addressed out of order (changes will be noted on the Council's Web site when possible.)

Monday, December 8, 2014

1:30 p.m.-5 p.m.

Executive Committee [OPEN SESSION]

—Ecosystem Approach to Fisheries Management

• Forage Fish White Paper (review second draft)

1. Consider potential action for protection of unmanaged forage species

• Climate Change and Fisheries White Paper (review first draft)

—2015 Implementation Plan

• Discuss and approve

Tuesday, December 9, 2014

9 a.m.-12:30 p.m.

Ecosystem/Ocean Planning Committee Meeting as a Committee of the Whole

—Habitat Project Update

—NEFMC Omnibus Habitat Amendment Public Hearing

—Develop Council comments on NEFMC Amendment

1:30 p.m.

Demersal Committee Meeting as a Committee of the Whole with the Atlantic States Marine Fisheries Commission's Summer Flounder, Scup, and Black Sea Bass Boards

1:30 p.m.-5 p.m.

Comprehensive Summer Flounder Amendment

—Review Summer Flounder Scoping comments

—Approve issues to be addressed in the amendment

Wednesday, December 10, 2014

9 a.m.

Demersal Committee Meeting as a Committee of the Whole with the Atlantic States Marine Fisheries Commission's Summer Flounder, Scup, and Black Sea Bass Boards

9 a.m.-10:30 a.m.

Finalize Summer Flounder 2015 Recreational Management Measures

—Review Monitoring Committee and Advisory Panel recommendations for 2015

—Adopt recommendations for 2015 management measures

10:30 a.m.-12 p.m.

Finalize Scup 2015 Recreational Management Measures

—Review Monitoring Committee and Advisory Panel recommendations for 2015

—Adopt recommendations for 2015 management measures

1 p.m.-3 p.m.

Finalize Black Sea Bass 2015 Management Measures

—Review Monitoring Committee and Advisory Panel recommendations for 2015

—Adopt recommendations for 2015 management measures

3 p.m.-4 p.m.

Greater Atlantic Regional Fisheries Office Strategic Plan, Harry Mears

4 p.m.-5 p.m.

Golden Tilefish

—Consider changes in possession limit

—Consider changes to the Interactive Voice Reporting requirements

5 p.m.-6 p.m.

Listening Session—Deep Sea Corals, Martha Nizinski

Thursday, December 11, 2014

9 a.m.

Council Convenes

9 a.m.-1 p.m.

Business Session

Organization Reports

—NMFS Greater Atlantic Regional Office

—NMFS Northeast Fisheries Science Center

—NOAA Office of General Counsel

—NOAA Office of Law Enforcement

—U.S. Coast Guard

—Atlantic States Marine Fisheries Commission

Liaison Reports

—New England Council

—South Atlantic Council

Executive Director's Report, Chris Moore

Science Report, Rich Seagraves

Committee Reports

—Executive Committee

• Approve 2015 Implementation Plan Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: November 17, 2014.
Tracey L. Thompson,
Acting Deputy Director, Office of Sustainable Fisheries, National Marine Fisheries Service.

[FR Doc. 2014-27541 Filed 11-20-14; 8:45 am]

BILLING CODE 3510-22-P